DEPARTMENT OF TRANSPORTATION

Federal Aviation Administration

Notice of Availability of Final Environmental Impact Statement (Final EIS)

AGENCY: Federal Aviation Administration.

ACTION: Notice of availability of Final EIS.

SUMMARY: In accordance with the National Environmental Policy Act of 1969 (NEPA, 42 U.S.C. 4321 et seq.) and Council on Environmental Quality regulations (40 CFR Part 1500-1508), the Federal Aviation Administration (FAA) is issuing this notice to advise the public that a Final EIS for proposed improvements to Runway Safety Areas at the Kodiak Airport has been prepared and is available for public review. Included in the Final EIS are a Subsistence Evaluation consistent with Section 810 of the Alaska National Interest Lands Conservation Act and a final evaluation pursuant to Section 4(f) of the Department of Transportation Act of 1966 (recodified as 49 U.S.C. 303(c)).

ADDRESSES: Copies of the Final EIS may be viewed online or during regular business hours at the following locations:

1. Online at www.kodiakairporteis.com.

2. Federal Aviation Administration, Airports Division, 222 W. 7th Avenue #14, Anchorage, AK 99513-7587. (907) 271-5453.

3. Holmes Johnson Memorial Library, 319 Lower Mill Bay Road, Kodiak, AK 99615. (907) 486-8680.

4. Alaska Department of Transportation and Public Facilities, 4111 Aviation Avenue, Anchorage, AK 99502.

FOR FURTHER INFORMATION CONTACT: Leslie Grey, Environmental Specialist, Federal Aviation Administration, Alaskan Region, Airports Division, address 222 W. 7th Avenue Box #14, Anchorage, AK 99513. Ms. Grey may be contacted during business hours at (907) 271-5453 (telephone) and (907) 271-2851 (fax), or by email at Leslie.Grey@faa.gov.

SUPPLEMENTARY INFORMATION: The Final EIS discusses proposed improvements to the Runway Safety Areas for Runway 07/25 and Runway 18/36, which have the potential to result in significant adverse environmental impacts. The FAA has identified the following preferred alternatives to meet the need for improved Runway Safety Areas:

• Improvements to the Runway Safety Area for Runway 07/25: Alternative 2, involving placement of fill off Runway end 25 and installation of an Engineered Material Arresting System (EMAS) bed on the newly constructed landmass.

• Improvements to the Runway Safety Area for Runway 18/36: Alternative 7, involving a landmass extension to the south beyond Runway end 36, shifting the runway to the south, and placing an EMAS bed to the north beyond Runway end 18.

Authority: 42 U.S.C. 4321 et seq., 40 CFR Part 1500-1508

Issued in Anchorage, Alaska, on July 23, 2013.
Byron K. Huffman,
Manager, Airports Division, Alaskan Region.

[FR Doc. 2013-18537 Filed 8-1-13; 8:45 am]

BILLING CODE 4910-13-P